DEPARTMENT OF THE INTERIOR

National Park Service

36 CFR Part 7

[NPS-BRCA-17884; PA.PD191235A.00.3]

RIN 1024-AE23

Special Regulations, Areas of the National Park System, Bryce Canyon National Park, Bicycling

AGENCY: National Park Service, Interior.

ACTION: Final rule.

SUMMARY: The National Park Service is planning to construct a paved, multi-use visitor path in Bryce Canyon National Park. The path will be approximately 6.2 miles long and be open to several uses, including running, walking, and bicycling. National Park Service regulations require promulgation of a special regulation to designate new routes for bicycle use off park roads and outside developed areas.

DATES: This rule is effective June 1, 2015.

FOR FURTHER INFORMATION CONTACT: Daniel J. Cloud, Chief of Facility Management, Bryce Canyon National Park, P.O. Box 640201, Bryce Canyon, UT 84764-0201. Phone: (435) 834-4720. Email: daniel_cloud@nps.gov.

SUPPLEMENTARY INFORMATION:

Background

Bryce Canyon National Park (BRCA or park) is in south-central Utah. The park encompasses approximately 35,835 acres and ranges between 6,600 and 9,100 feet in elevation. BRCA was originally established as a national monument by presidential proclamation in 1923. The park was renamed Utah National Park in 1924, and the name was changed to Bryce Canyon National Park in 1928.

The park's most noted feature is the eroded landscape below the east rim of the Paunsaugunt Plateau. The erosional force of frost-wedging and the dissolving power of rainwater have worn away the colorful and weak limestone rock into bizarre shapes, including slot canyons, windows, fins, and spires called “hoodoos.” Because the park transcends 2,500 feet of elevation, the park exists in three distinct climatic zones characterized by spruce/fir forest, ponderosa pine forest, and pinyon pine/juniper woodlands. The diversity of forest and meadow habitats provides a high degree of plant and animal diversity. BRCA is also one of the best places to experience a truly dark night sky.

The park's purpose statement, which provides the foundation for park management, administration, and use decisions, states that “Bryce Canyon National Park protects and conserves resources integral to a landscape of unusual scenic beauty exemplified by highly colored and fantastically eroded geological features, including rock fins and spires, for the benefit and enjoyment of the people.” (May 2014 Foundation Document). The park's Foundation Document identifies “increased use of alternative transportation (e.g., biking, hiking) within and surrounding the park” as an opportunity to protect clean air—one of the fundamental resources of the park. The proposal to construct a multi-use path in the park will support the park's purpose statement by providing a new opportunity for safe enjoyment and protection of the fundamental resources in the park.

Purpose of the Multi-Use Path

The primary purpose of the multi-use path is to relieve safety problems for visitors of all ages who choose to use non-motorized transportation to experience the park and adjacent United States Forest Service (USFS) areas near Bryce Canyon City. Increases in visitation of the park (30% increase between 2008 and 2012) are leading to transportation system capacity problems and traffic congestion. Cyclists and pedestrians need a way to travel to and within the park that is safer, provides a better visitor experience, and promotes non-motorized travel between nearby communities and the park as well as between key destinations in the park.

The path will enhance the park's transportation system by connecting the park's gateway communities with high visitor use areas along the canyon rim in the Bryce Amphitheater and with other key features of the park. The proposed path will also connect to the existing transportation system, including visitor shuttle buses, hiking trails and walking paths, parking lots, and roads. This will link major visitor attractions and facilities with both non-motorized and motorized transportation modes. Visitor safety will be improved by separating motor vehicles from bicyclists, pedestrians, and other non-motorized user groups where possible.

The multi-use path will consist of two contiguous sections constructed in two phases. The first segment will be approximately 3.9 miles long. This segment will begin at the park boundary near the main park road to/from Bryce Canyon City. The path will roughly parallel the main park road and continue to the visitor center and North Campground area. The path will then run southeast toward the canyon rim, behind the General Store and Lodge area, and to the Sunset Point parking lot where it will turn back to parallel the main park road. The path will then leave the main park road and branch toward Inspiration Point parking area. The NPS intends to complete construction of the first segment by the fall 2015.

The second segment will be approximately 2.3 miles long and will mostly follow Bryce Point road to a terminus at a trailhead just below the Bryce Point parking area. The NPS will construct the second segment as resources become available.

In total, the path will be approximately 6.2 miles long within the boundary of the park. No portion of the proposed path will be constructed below the canyon rim on park lands, nor in proposed wilderness areas inside the park. For most locations, the path will consist of a 10-foot wide paved asphalt surface. The path will generally parallel the main park road to provide separation between users and vehicles to reduce the likelihood of related safety problems. Spurs from the main path alignment will be designed to provide visitor access to key viewpoints and other landscape features. The path will continue outside of the boundary of the park through Bryce Canyon City and Dixie National Forest. This will provide a safe, efficient, and family-friendly way to access these connected areas.

Environmental Assessment

In September 2014, the NPS published the Multi-use Visitor Path Environmental Assessment (EA). On December 23, 2014, the Regional Director for the Intermountain Region signed a Finding of No Significant Impact (FONSI) that identified the preferred alternative (Alternative Alignment A) in the EA as the selected action. The rule implements the selected action as described in the EA and the FONSI. The EA and the FONSI, which contain a full description of the purpose and need for taking action, scoping, the alternatives considered, maps of the proposed multi-use path, and the environmental impacts associated with the project, may be viewed on the park's planning Web site at http://parkplanning.nps.gov/brca, by clicking on the link entitled “Bryce Canyon National Park Multi-Use Path” and then clicking on the link entitled “Document List.”

Final Rule

The rule complies with the requirement of 36 CFR 4.30, which requires a special regulation to designate new bicycle routes off park roads and outside of developed areas. The EA and FONSI address bicycle use on the multi-use path and evaluate (i) the suitability of the trail surface for bicycle use; and (ii) life cycle maintenance costs, safety considerations, methods to prevent or minimize user conflict, methods to protect natural and cultural resources and mitigate impacts, and integration with commercial services and alternative transportation systems in compliance with 36 CFR 4.30(d)(1)-(2).

The rule adds a new section 7.94 to 36 CFR part 7—Special Regulations, Areas of the National Park Service for Bryce Canyon National Park. The rule authorizes the superintendent to designate all or a portion of two segments of the proposed 6.2-mile-long multi-use path as a route for bicycle use. The Superintendent will notify the public of any such designation through one or more of the methods outlined in 36 CFR 1.7, and place the designation on maps that are available in the office of the Superintendent and other places convenient to the public.

The rule also authorizes the superintendent to establish closures or restrictions for bicycle use on designated routes after considering public health and safety, resource protection, and other management activities and objectives, provided public notice is given under 36 CFR 1.7.

Summary of Public Comments

We published the proposed rule at 79 FR 70137 (November 25, 2014). We accepted comments through the mail, hand delivery, and through the Federal eRulemaking Portal at http://www.regulations.gov. Comments were accepted through January 26, 2015, and we received eight timely comments. Seven comments supported the proposed rule and did not request any change. One comment opposed the proposed rule. A summary of this comment and the NPS response is provided below. After considering the public comments and after additional review, we did not make any changes in the final rule.

Comment: One comment stated that mountain biking is harmful to wildlife, people, and the environment. Specifically, this comment raised concerns that mountain biking destroys habitat, accelerates erosion, kills animals and plants, and creates conflicts with wildlife and other park visitors, including hikers and equestrians.

NPS Response: This rule allows the superintendent to authorize bicycle use on the paved, shared-use path, and not off-trail or on non-paved, soft-surface trails. The multi-use path will not be a soft surface backcountry mountain bike path, and will not go below the canyon rim on park lands, or in proposed wilderness areas inside the park. The path will use a hardened surface to accommodate a wide range of non-motorized uses in the front country only. Potential impacts to park resources, including wildlife and habitat, soils, special status species and vegetation, as well as impacts to visitor use and experience were evaluated in the EA. Adverse impacts to these resources and visitor use were determined to be minor. The FONSI documented the finding that no significant impacts will occur, and concluded that bicycle use on the proposed path does not pose any significant impact that would rise to the levels that would constitute impairment.

Compliance With Other Laws, Executive Orders and Department Policy

Regulatory Planning and Review (Executive Orders 12866 and 13563)

Executive Order 12866 provides that the Office of Information and Regulatory Affairs in the Office of Management and Budget will review all significant rules. The Office of Information and Regulatory Affairs has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act

This rule will not have a significant economic effect on a substantial number of small entities under the Regulatory Flexibility Act (5 U.S.C. 601 et seq.). This certification is based on information contained in the economic analyses found in the report entitled “Cost-Benefit Analysis: Proposed Regulations to Designate New Routes for Bicycle Use in Bryce Canyon National Park” which is available online at http://parkplanning.nps.gov/brca by clicking on the link entitled “Bryce Canyon National Park Multi-Use Path” and then clicking on the link entitled “Document List.”

Small Business Regulatory Enforcement Fairness Act

This rule is not a major rule under 5 U.S.C. 804(2), the Small Business Regulatory Enforcement Fairness Act. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This rule does not impose an unfunded mandate on State, local, or tribal governments or the private sector of more than $100 million per year. The rule does not have a significant or unique effect on State, local or tribal governments or the private sector. It addresses public use of national park lands, and imposes no requirements on other agencies or governments. A statement containing the information required by the Unfunded Mandates Reform Act (2 U.S.C. 1531 et seq.) is not required.

Takings (Executive Order 12630)

This rule does not affect a taking of private property or otherwise have takings implications under Executive Order 12630. A takings implication assessment is not required.

Federalism (Executive Order 13132)

Under the criteria in section 1 of Executive Order 13132, the rule does not have sufficient federalism implications to warrant the preparation of a Federalism summary impact statement. This rule only affects use of NPS administered lands and waters. It has no outside effects on other areas. A Federalism summary impact statement is not required.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and tribal sovereignty. We have evaluated this rule under the Department's consultation policy and under the criteria in Executive Order 13175. During the environmental assessment process, we consulted with the 10 Native American groups associated with BRCA and determined that there are no substantial direct effects on federally recognized Indian tribes.

Paperwork Reduction Act

This rule does not contain information collection requirements, and a submission to the Office of Management and Budget under the Paperwork Reduction Act is not required. We may not conduct or sponsor and you are not required to respond to a collection of information unless it displays a currently valid OMB control number.

National Environmental Policy Act

This rule does not constitute a major Federal action significantly affecting the quality of the human environment. A detailed statement under the National Environmental Policy Act of 1969 is not required because we reached the FONSI. A copy of the EA and FONSI can be found online at http://parkplanning.nps.gov/brca by clicking on the link entitled “Bryce Canyon National Park Multi-Use Path” and then clicking on the link entitled “Document List.”

Effects on the Energy Supply (Executive Order 13211)

This rule is not a significant energy action under the definition in Executive Order 13211. A Statement of Energy Effects in not required.

Drafting Information: The primary author of this regulation is Jay P. Calhoun, Regulations Program Specialist, National Park Service.

List of Subjects in 36 CFR Part 7

National parks, Reporting and recordkeeping requirements.

In consideration of the foregoing, the National Park Service amends 36 CFR part 7 as set forth below:

PART 7—SPECIAL REGULATIONS, AREAS OF THE NATIONAL PARK SYSTEM

1. The authority citation for Part 7 continues to read as follows:

Authority: 16 U.S.C. 1, 3, 9a, 462(k); Sec. 7.96 also issued under 36 U.S.C. 501-511, D.C. Code 10-137 (2001) and D.C. Code 50-2201.07 (2001).

2. Add § 7.94 to read as follows:

§ 7.94 Bryce Canyon National Park.

(a) The Superintendent may designate for bicycle use routes or portions of routes on the following sections of the park's multi-use recreational path:

(1) A section between the park boundary near Bryce Canyon City and Inspiration Point parking area (approximately 3.9 miles);

(2) A section between the intersection of Bryce Point road and Inspiration Point road, and a trailhead near Bryce Point parking area (approximately 2.3 miles).

(b) The Superintendent will provide notice of all bicycle route designations through one or more of the methods listed in § 1.7 of this chapter, and place the designations on maps that are available in the office of the Superintendent and other places convenient to the public.

(c) The Superintendent may open or close designated bicycle routes, or portions thereof, or establish conditions or restrictions for bicycle use after considering public health and safety, natural and cultural resource protection, carrying capacity, and other management activities and objectives.

(1) The Superintendent will provide public notice of all such actions through one or more of the methods listed in § 1.7 of this chapter.

(2) Violating a closure, condition, or restriction is prohibited.

Dated: April 17, 2015.
Michael Bean,
Principal Deputy Assistant Secretary for Fish and Wildlife and Parks.

[FR Doc. 2015-10170 Filed 4-29-15; 8:45 am]

BILLING CODE 4310-EJ-P